DEPARTMENT OF ENERGY

Federal Energy Regulatory Commission

[Docket No. EL94-16-003, et al.]

Wisconsin Electric Power Company, et al.; Electric Rate and Corporate Filings

November 21, 2003.

The following filings have been made with the Commission. The filings are listed in ascending order within each docket classification.

1. Wisconsin Electric Power Company

[Docket No. EL94-16-003]

Take notice that on November 12, 2003 as amended on November 13, 2003, Wisconsin Electric Power Company (WEPCO) submitted a compliance filing pursuant to the Commission's Order issued October 1, 2003, (105 FERC ¶ 61,002). WEPCO states that the purpose of the amended filing was to correct a minor error in the calculation of the refund to Oconto Power & Light Cooperative reflected in an earlier compliance filing dated November 12, 2003. The amended filing constitutes a complete and corrected filing in compliance with the October 1, 2003 Order.

Comment Date: December 3, 2003.

2. California Independent System Operator Corporation

[Docket No. EL04-24-000]

Take notice that on November 14, 2003, the California Independent System Operator Corporation (California ISO) filed a Petition for Review of Arbitrator's Award, pursuant to Rule 207 of the Commission's Rules of Practice and Procedure, 18 CFR 385.207. The petition states that the California ISO is requesting review of the Final Order and Award issued on October 23, 2003, in American Arbitration Association Case No. 71 198 00711 00.

The California ISO states that this filing has been served upon all parties to the arbitration, the Public Utilities Commission of the State of California and the California Electricity Oversight Board. The petition is being served via email to the arbitrator.

Comment Date: December 5, 2003.

3. Bangor Hydro-Electric Company, Central Maine Power Company, NSTAR Electric & Gas Corporation, on Behalf of Its Affiliates: Boston Edison Company, Commonwealth Electric Company, Cambridge Electric Light Company, Canal Electric Company, New England Power Company, Northeast Utilities Service Company, on Behalf of Its Operating Company Affiliates: The Connecticut Light and Power Company, Western Massachusetts Electric Company, Public Service Company of New Hampshire, Holyoke Power and Electric Company, Holyoke Water Power Company, The United Illuminating Company, Vermont Electric Power Company, Central Vermont Public Service Corporation, and Green Mountain Power Corporation

[Docket No. ER04-157-001]

Take notice that on November 18, 2003, Bangor-Hydro Electric Company, Central Maine Power Company, Boston Edison Company, Cambridge Electric Light Company, Canal Electric Company, Commonwealth Electric Company, New England Power Company, The Connecticut Light and Power Company, Western Massachusetts Electric Company, Public Service Company of New Hampshire, Holyoke Power and Electric Company, Holyoke Water Power Company, The United Illuminating Company, Vermont Electric Power Company, Green Mountain Power Corporation, and Central Vermont Public Service Corporation (collectively, the “New England Transmission Owners”) filed an amendment to their November 4, 2003 filing in this proceeding.

New England Transmission Owners state that the November 4, 2003 filing concerns a request by them for approval of a return on common equity component of the regional and local transmission rates under the Regional Transmission Organization for New England (RTO-NE) open access transmission tariff.

The New England Transmission Owners state that they are serving a copy of the filing on the Governors and utility regulatory commissions of Connecticut, Maine, Massachusetts, New Hampshire, Rhode Island, and Vermont. A copy of the filing is being served electronically on Participants in New England Power Pool (NEPOOL), and in addition, the filing has been electronically posted on the RTO-NE website (http://www.rto-ne.com/) under the heading “Legal Filings,” and those New England transmission customers (including customers under the local tariffs of the New England Transmission Owners) that are not Participants in NEPOOL have been provided notice of such posting. The New England Transmission Owners state that they will provide a hard copy of the amendment filing to any interested party upon request.

Comment Date: December 9, 2003.

4. Consolidated Edison Company of New York, Inc.

[Docket Nos. ER04-191-000 and ER02-1820-000]

Take notice that on November 12, 2003, Consolidated Edison Company of New York, Inc. (Con Edison) tendered for filing an amendment to it Open Access Transmission Tariff (OATT) which is a retail transmission service agreement entitled “Economic Development Operating Agreement and Retail Transmission Service Agreement” designated as Attachment N to the OATT.

Con Edison states that the proposed amendment would allow the County of Westchester Public Service Agency (COWPUSA) to receive retail delivery service of up to 10 mw of power through Con Edison's transmission and distribution facilities. COWPUSA will purchase the power from the New York Power Authority (NYPA) for resale to its customers.

Con Edison advises that the proposed service agreement with COWPUSA is intended to supersede an amendment to the 1987 Agreement submitted in a May 14, 2002 filing in Docket No. ER02-1820-000. Accordingly, Con Edison requests that it be permitted, pursuant to the Commission's regulations at 18 CFR 35.15, to cancel the May 14, 2002 filing in Docket No. ER02-1820.

Con Edison states that a copy of this filing has been served on COWPUSA, NYPA, and the New York Public Service Commission.

Comment Date: December 3, 2003.

5. New England Power Pool

[Docket Nos. ER04-195-000]

Take notice that on November 17, 2003, the New England Power Pool (NEPOOL) Participants Committee submitted an informational filing to notify the Commission that as of November 15, 2003, NEPOOL, ISO New England Inc. and NRG Power Marketing Inc. (NRG Power), acting on behalf of itself and several affiliates, entered into a Restated Weekly Billing Agreement.

The NEPOOL Participants Committee states that copies of these materials were served on the governors and electric utility regulatory agencies for the six New England states. In addition, all NEPOOL Participants Committee members have been furnished with an electronic copy of this filing.

Comment Date: December 8, 2003.

6. Avista Corporation

[Docket No. ER04-196-000]

Take notice that on November 17, 2003, Avista Corporation (Avista), tendered for filing with the Federal Energy Regulatory Commission an executed Long Term Service Agreement, Rate Schedule No. 304, under Avista(s FERC Electric Tariff First Revised Volume No. 9, with NorthWestern Energy, Puget Sound Energy, Inc., Portland General Electric Company, PacifiCorp, and PPL Montana, LLC, whereby Avista will provide the energy to operate pumps at the Nichols Pumping Station for the Colstrip Project. Avista states that included with this filing are Certificates of Concurrence for each party to the Agreement in the event a Party elects to make exchanges. Avista requests waiver of the prior notice requirement and requests that Rate Schedule No. 304 be accepted for filing effective November 1, 2003.

Comment Date: December 8, 2003.

7. Avista Corporation

[Docket No. ER04-196-000]

Take notice that on November 17, 2003, Avista Corporation (Avista), tendered for filing with the Federal Energy Regulatory Commission an executed Long Term Service Agreement, Rate Schedule No. 304, under Avista(s FERC Electric Tariff First Revised Volume No. 9, with NorthWestern Energy, Puget Sound Energy, Inc., Portland General Electric Company, PacifiCorp, and PPL Montana, LLC, whereby Avista will provide the energy to operate pumps at the Nichols Pumping Station for the Colstrip Project. Avista states that included with this filing are Certificates of Concurrence for each party to the Agreement in the event a Party elects to make exchanges. Avista requests waiver of the prior notice requirement and requests that Rate Schedule No. 304 be accepted for filing effective November 1, 2003.

Comment Date: December 8, 2003.

8. Forest Energy Partners, LLC

[Docket No. ER04-197-000]

Take notice that on November 17, 2003, Forest Energy Partners, LLC (Forest) petitioned the Commission for an order: (1) Accepting Forest's proposed FERC rate schedule for market-based rates; (2) granting waiver of certain requirements under Subparts B and C of Part 35 of the regulations; (3) granting the blanket approvals normally accorded sellers permitted to sell at market-based rates; and (4) granting waiver of the 60-day notice period.

Comment Date: December 8, 2003.

9. Ameren Services Company

[Docket No. ER04-198-000]

Take notice that on November 18, 2003, Ameren Services Company (ASC) tendered for filing a Service Agreement for Network Integration Transmission Service and a Network Operating Agreement between ASC and Central Illinois Light Company, d/b/a AmerenCILCO (Customer). ASC asserts that the purpose of the Agreement is to permit ASC to provide transmission service to the Customer pursuant to Ameren's Open Access Transmission Tariff.

Comment Date: December 9, 2003.

10. Portland General Electric Company

[Docket No. ER04-199-000]

Take notice that on November 17, 2003, Portland General Electric Company (Portland) filed with the Federal Energy Regulatory Commission a proposed revision to Portland's market-based rate tariff, imposing a cost-based cap that will apply to new sales transactions entered into and delivered by Portland during the specified twelve-month period. Portland requests that the Commission make the amended tariff sheets effective as of the day following the date the Offer of Settlement and the Agreement and Stipulation (collectively, the “Settlement”), filed by Portland and the other signing parties in Docket No. EL02-114, are approved by the Commission. Portland states that in the event that the Commission does not approve the Settlement or that it does not become effective pursuant to its terms, this amendment will also not become effective and will be null and void.

Comment Date: December 8, 2003.

11. American Electric Power Service Corporation

[Docket No. ER04-200-000]

Take notice that on November 18, 2003, the American Electric Power Service Corporation (AEPSC) tendered for filing pursuant to § 35.15 of the Federal Energy Regulatory Commission's regulations, 18 CFR Section 35.15, a Notice of Termination of an executed Interconnection and Operation Agreement between Kentucky Power Company and Kentucky Mountain Power, LLC. designated as Service Agreement No. 312 under American Electric Power Operating Companies' Open Access Transmission Tariff. AEP requests an effective date of January 16, 2004.

AEPSC states that a copy of the filing was served upon Kentucky Mountain Power, L.L.C. and the Kentucky Public Service Commission.

Comment Date: December 9, 2003.

12. Southwest Power Pool, Inc.

[Docket Nos. ER04-202-000]

Take notice that on November 18, 2003, Southwest Power Pool, Inc. (SPP) tendered for filing a Notice of Cancellation of Service Agreement No. 890 between SPP and Kansas Municipal Energy Agency.

SPP states that it has served a copy of this filing to Kansas Municipal Energy Agency.

Comment Date: December 9, 2003.

13. Kentucky Utilities Company

[Docket No. ER04-203-000]

Take notice that on November 18, 2003, Kentucky Utilities Company (KU) pursuant to section 205 of the Federal Power Act, 16 U.S.C. 24 (2000) and § 35.11 of the Federal Energy Regulatory Commission's regulations, 18 CFR 35.11 (2003), filed an Amendment to the Contract for Electric Service by and between Kentucky Utilities Company and the City of Providence; KU requested waiver of the Commission's regulations to permit it to establish an effective date of November 18, 2003 for the Amendment.

Comment Date: December 9, 2003.

14. Xcel Energy Inc. and NRG Energy, Inc. and Its Public Utility Subsidiaries

[Docket No. ES03-59-002]

Take notice that on November 18, 2003, NRG Energy, Inc. (NRG) filed with the Federal Energy Regulatory Commission (Commission) an amendment to the Section 204 authority granted to NRG in this proceeding. The filing requests that the Commission authorize NRG to issue up to $2.715 billion in debt as part of its proposed refinancing package, which would represent an increase of $500 million over the $2.215 billion the Commission approved in its October 22, 2003 Letter Order. See NRG Energy, Inc., 105 FERC ¶ 62,037 (2003).

Comment Date: December 9, 2003.

15. Inland Power & Light Company

[Docket No. ES04-5-000]

Take notice that on November 14, 2003, the Inland Power & Light Company (Inland) submitted an application pursuant to section 204 of the Federal Power Act seeking authorization to: (1) Issue long-term debt in an amount not to exceed $20 million; and (2) enter into a $10 million unsecured line-of-credit. Inland states that borrowings would be pursuant to agreements with the National Rural Cooperative Financing Corporation.

Inland also requests a waiver from the Commission's competitive bidding and negotiated placement requirements at 18 CFR 34.2.

Comment Date: December 11, 2003.

16. Kandiyohi Power Cooperative

[Docket No. ES04-6-000]

Take notice that on November 14, 2003, the Kandiyohi Power Cooperative (Kandiyohi) submitted an application pursuant to Section 204 of the Federal Power Act seeking authorization to make long-term borrowings in an amount up to $2.5 million with the National Rural Cooperative Finance Corporation.

Kandiyohi also requests a waiver from the Commission's competitive bidding and negotiated placement requirements at 18 CFR 34.2.

Comment Date: December 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda L. Mitry,
Acting Secretary.

[FR Doc. E3-00416 Filed 12-01-03; 8:45 am]

BILLING CODE 6717-01-P